DEPARTMENT OF JUSTICE

Antitrust Division

Notice Pursuant to the National Cooperative Research and Production Act of 1993—Countering Weapons of Mass Destruction

Notice is hereby given that, on January 16, 2020, pursuant to Section 6(a) of the National Cooperative Research and Production Act of 1993, 15 U.S.C. 4301 et seq. (“the Act”), Countering Weapons of Mass Destruction (“CWMD”) has filed written notifications simultaneously with the Attorney General and the Federal Trade Commission disclosing changes in its membership. The notifications were filed for the purpose of extending the Act's provisions limiting the recovery of antitrust plaintiffs to actual damages under specified circumstances. Specifically, Apogee Group, LLC, Kennewick, WA; Blackthorne Services Group, Hanover, MA; eSpin Technologies, Inc., Chattanooga, TN; Lufburrow & Company, Inc., Havre De Grace, MD; Polestar Technologies, Inc., Needham Heights, MA; Proportional Technologies, Inc., Houston, TX; RingIR, Inc., Albuquerque, NM; Shipcom Federal Solutions, Balcamp, MD; Signalscape, Inc., Cary, NC; Systems Planning and Analysis, Inc. (SPA), Alexandria, VA; The Arizona Board of Regents, University of Arizona, Tuscon, AZ; University of Michigan, Ann Arbor, MI; Xilectric, Inc., Fall River, MA; and Xtallized Intelligence, Inc., Nashville, TN; have been added as parties to this venture.

Also, CogniTech Corporation, Salt Lake City, UT; CritiTech Particle Engineering Solutions, LLC, Lawrence, KS; Forge AI, Cambridge, MA; Interclypse, Inc., Annapolis Junction, MD; Management Services Group, Inc., dba Global Technical Systems, Virginia Beach, VA; Offset Strategic Serivices, Fayetteville, TN; and Strategic Alliances Group, Inc., Havre de Grace, MD; have withdrawn as parties to this venture.

No other changes have been made in either the membership or planned activity of the group research project. Membership in this group research project remains open and CWMD intends to file additional written notifications disclosing all changes in membership.

On January 31, 2018, CWMD filed its original notification pursuant to Section 6(a) of the Act. The Department of Justice published a notice in the Federal Register pursuant to Section 6(b) of the Act on March 12, 2018 (83 FR 10750).

The last notification was filed with the Department on October 23, 2019. A notice was published in the Federal Register pursuant to Section 6(b) of the Act on November 18, 2019 (83 FR 63678).

Suzanne Morris,
Chief, Premerger and Division Statistics Unit, Antitrust Division.

[FR Doc. 2020-02222 Filed 2-4-20; 8:45 am]

BILLING CODE 4410-11-P